DEPARTMENT OF TRANSPORTATION

Federal Aviation Administration

[Docket No. FAA-2024-2103]

Agency Information Collection Activities: Requests for Comments; Clearance of Renewed Approval of Information Collection: Aircraft Registration

AGENCY: Federal Aviation Administration (FAA), DOT.

ACTION: Notice and request for comments.

SUMMARY: In accordance with the Paperwork Reduction Act of 1995, FAA invites public comments about our intention to request Office of Management and Budget (OMB) approval to add two new forms to a previously approved information collection. The information in this collection is used by the FAA Aircraft Registration Branch (Aircraft Registry) to register aircraft or record a security interest in a registered aircraft.

DATES: Written comments should be submitted by October 29, 2024.

ADDRESSES: Please send written comments:

By Electronic Docket: www.regulations.gov (Enter docket number into search field)

By mail: Gianna DeMoor, Acting Manager, Aircraft Registration Branch, AFB-710, PO Box 25504, Oklahoma City, OK 73125

By fax: 405-954-8068

FOR FURTHER INFORMATION CONTACT: Bonnie Lefko by email at: bonnie.lefko@faa.gov; phone: 405-954-7461.

SUPPLEMENTARY INFORMATION:

Public Comments Invited: You are asked to comment on any aspect of this information collection, including (a) Whether the proposed collection of information is necessary for FAA's performance; (b) the accuracy of the estimated burden; (c) ways for FAA to enhance the quality, utility, and clarity of the information collection; and (d) ways that the burden could be minimized without reducing the quality of the collected information. The agency will summarize and/or include your comments in the request for OMB's clearance of this information collection.

OMB Control Number: 2120-0042.

Title: Aircraft Registration.

Form Numbers: Existing AC Forms 8050-1, 8050-1B, 8050-2, 8050-4, 8050-88, 8050-88A, 8050-98 and 8050-117. New AC Forms 8050-88UA and 8050-138.

Type of Review: Revision of an existing information collection.

Background: Public Law 103-272 states that all aircraft must be registered before they may be flown. It sets forth registration eligibility requirements and provides for applications for registration as well as suspension and/or revocation of registrations. The information collected is used by the FAA to determine eligibility to register an aircraft and record a security interest in a registered aircraft.

The Aircraft Registry has determined there is a need to create two new forms for this collection as follows: AC Form 8050-88UA, Affidavit of Ownership for Unmanned Aircraft (UA) and AC Form 8050-138, Declaration of International Operation (DIO).

The AC Form 8050-88UA was created to make it easier for registration applicants to supply the FAA Aircraft Registry with the minimal information needed to register a UA. Most UA owners don't have the required evidence of ownership to register. The affidavit will be used in lieu of a recordable bill of sale for any new registrations. The registrant may still submit any other proof of ownership with the affidavit or declare that evidence of ownership is not available.

The AC Form 8050-138 was created to allow registrants to request priority handling of their registration documents due to an impending international flight. The Aircraft Registry is required to process all incoming documents in the order of their receipt. Newly registered aircraft may only be flown within the continental United States by carrying a second copy of the Aircraft Registration Application in the aircraft unless the aircraft has never been on the U.S. Registry. There are instances where applicants need to fly aircraft outside the continental United States. Many of those applicants are major Air Carriers and small businesses. When an applicant files a DIO, the applicants' registration documents will be worked on a priority basis, alleviating any undue hardship. The form will collect the pertinent information of the scheduled international flight.

Respondents: Approximately 5,000 international flights and 2,000 new UA applicants annually.

Frequency: Information is collected on occasion.

Estimated Average Burden per Response: 15 minutes for each new form.

Estimated Total Annual Burden: 1,750 hours.

Issued in Oklahoma City, OK on August 27, 2024.
Bonnie Lefko,
Program Analyst, Civil Aviation Registry, Aircraft Registration Branch, AFB-711.

[FR Doc. 2024-19525 Filed 8-29-24; 8:45 am]

BILLING CODE 4910-13-P